NUCLEAR REGULATORY COMMISSION

10 CFR Part 70

[NRC-2024-0159]

Regulatory Guide: Monitoring of Combustible Gases and Vapors in Plutonium Processing and Fuel Fabrication Plants

AGENCY: Nuclear Regulatory Commission.

ACTION: Final guide; issuance.

SUMMARY: The U.S. Nuclear Regulatory Commission (NRC) is issuing Revision 1 to Regulatory Guide (RG) 3.7, “Monitoring of Combustible Gases and Vapors in Plutonium Processing and Fuel Fabrication Plants,” in which there are minor corrections with no substantive changes in the NRC staff's regulatory positions. RG 3.7 provides guidance with regard to protecting against the possibility of the formation of flammable mixtures with combustible gases and vapors. This guidance is needed to protect against the possibility of the formation of flammable mixtures with these gases and vapors when combustible gases and solvents are used within the confinement barriers of a plutonium processing and fuel fabrication plant.

DATES: Revision 1 to RG 3.7 is available on September 30, 2024.

ADDRESSES: Please refer to Docket ID NRC-2024-0159 when contacting the NRC about the availability of information regarding this document. You may obtain publicly available information related to this document using any of the following methods:

• Federal Rulemaking Website: Go to https://www.regulations.gov and search for Docket ID NRC-2024-0159. Address questions about Docket IDs in Regulations.gov to Stacy Schumann; telephone: 301-415-0624; email: Stacy.Schumann@nrc.gov. For technical questions, contact the individuals listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document. Revision 1 to RG 3.7 may be found in ADAMS under Accession No. ML24162A095.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Regulatory guides are not copyrighted, and NRC approval is not required to reproduce them.

FOR FURTHER INFORMATION CONTACT: Nicole Cortes, Office of Nuclear Reactor Regulation, telephone: 301-415-7331; email: Nicole.Cortes@nrc.gov; and Harriet Karagiannis, Office of Nuclear Regulatory Research, telephone: 301-415-3346, email: Harriet.Karagiannis@nrc.gov. Both are staff at the U.S. Nuclear Regulatory Commission, Washington, DC 20555-0001.

SUPPLEMENTARY INFORMATION:

I. Discussion

The NRC is issuing an administrative revision to an existing guide in the NRC's “Regulatory Guide” series. Regulatory guides are developed to describe and make available to the public information and methods that are acceptable to the NRC staff for implementing specific parts of the agency's regulations, techniques that the staff uses in evaluating specific issues or postulated events, and data that the staff needs in its review of applications for permits and licenses.

The NRC typically seeks public comment on a draft version of an RG by announcing its availability for comment in the Federal Register. However, as explained in NRC's Management Directive (MD) 6.6 “Regulatory Guides,” (ADAMS Accession No. ML22010A233) the NRC may directly issue a final RG without a draft version or public comment period if the changes to the RG are non-substantive.

Thus, the NRC is issuing Revision 1 of RG 3.7 directly as a final RG because there are no changes in the staff positions between Revision 0 and Revision 1. Revision 1 of RG 3.7 incorporates minor corrections, and other editorial changes that are administrative in nature. The changes are intended to improve clarity and do not alter the NRC staff's regulatory guidance for the “Monitoring of Combustible Gases and Vapors in Plutonium Processing and Fuel Fabrication Plants,” licensees.

II. Additional Information

As noted in the Federal Register on December 9, 2022 (87 FR 75671), this document is being published in the “Rules” section of the Federal Register to comply with publication requirements under chapter I of title 1 of the Code of Federal Regulations (CFR).

III. Congressional Review Act

This RG is not a rule as defined in the Congressional Review Act (5 U.S.C. 801-808).

IV. Backfitting, Forward Fitting, and Issue Finality

The NRC staff may use this RG as a reference in its regulatory processes, such as licensing, inspection, or enforcement. However, the NRC staff does not intend to use the guidance in this RG to support NRC staff actions in a manner that would constitute backfitting as that term is defined in 10 CFR 50.109, “Backfitting,” and as described in NRC MD 8.4, “Management of Backfitting, Forward Fitting, Issue Finality, and Information Requests” (ADAMS Accession No. ML18093B087), nor does the NRC staff intend to use the guidance to affect the issue finality of an approval under 10 CFR part 52. The staff also does not intend to use the guidance to support NRC staff actions in a manner that constitutes forward fitting as that term is defined and described in MD 8.4. If a licensee believes that the NRC is using this RG in a manner inconsistent with the discussion in the Implementation section of RG 3.7, then the licensee may file a backfitting or forward fitting appeal with the NRC in accordance with the process in MD 8.4.

V. Submitting Suggestions for Improvement of Regulatory Guides

A member of the public may, at any time, submit suggestions to the NRC for improvement of existing RGs or for the development of new RGs to address new issues. Suggestions can be submitted on the NRC's public website at https://www.nrc.gov/reading-rm/doc-collections/reg-guides/contactus.html. Suggestions will be considered in future updates and enhancements to the “Regulatory Guide” series.

Dated: September 24, 2024.
For the Nuclear Regulatory Commission.
Meraj Rahimi,
Chief, Regulatory Guide and Programs Management Branch, Division of Engineering, Office of Nuclear Regulatory Research.

[FR Doc. 2024-22246 Filed 9-27-24; 8:45 am]

BILLING CODE 7590-01-P